DEPARTMENT OF ENERGY

Federal Energy Regulatory Commission

[Project Nos. 2322-069; 2322-071; 2325-100; Project No. 2574-092; Project No. 2611-091]

Brookfield White Pine Hydro, LLC; Merimil Limited Partnership; Hydro-Kennebec, LLC; Notice of Intent To Prepare an Environmental Impact Statement for The Proposed Project Relicense, Interim Species Protection Plan, and Final Species Protection Plan, Request for Comments on Environmental Issues, Schedule for Environmental Review, and Soliciting Scoping Comments

On January 31, 2020, Brookfield White Pine Hydro, LLC filed an application for a new license to continue to operate and maintain the 8.65-megawatt (MW) Shawmut Hydroelectric Project No. 2322 (Shawmut Project).

On June 1, 2021, in a separate compliance proceeding for the Shawmut Project, Brookfield White Pine Hydro, LLC filed an Interim Species Protection Plan (Interim Plan) for Atlantic salmon and requested Commission approval to amend the current Shawmut license to incorporate the Interim Plan. The Interim Plan includes measures to protect endangered Atlantic salmon until the Commission issues a decision on the relicense application for the Shawmut Project.

Also on June 1, 2021, Brookfield Power US Asset Management, LLC (Brookfield), on behalf of the affiliated licensees for the 6.915-MW Lockwood Hydroelectric Project No. 2574 (Lockwood Project), 15.433-MW Hydro-Kennebec Hydroelectric Project No. 2611 (Hydro-Kennebec Project), and 15.98-MW Weston Hydroelectric Project No. 2325 (Weston Project), filed a Final Species Protection Plan (Final Plan) for Atlantic salmon, Atlantic sturgeon, and shortnose sturgeon and requested Commission approval to amend the three project licenses to incorporate the Final Plan. All four projects are located on the Kennebec River, in Kennebec and Somerset Counties, Maine.

On July 1, 2021, Commission staff issued a notice of availability of a draft environmental assessment (DEA) for relicensing the Shawmut Project. On July 26, 2021, Commission staff issued a notice of the amendment applications for the Final Plan. On August 19, 2021, Commission staff issued a notice of the amendment application for the Shawmut Project's Interim Plan.

Numerous comments were filed on the Shawmut Project DEA and the Interim and Final Plans. Many of the commenters state that the Commission's National Environmental Policy Act (NEPA) review of the Shawmut Project relicensing and the Interim and Final Plans should be done comprehensively through the preparation of an environmental impact statement (EIS).¹ Commenters state that an EIS is needed to fully evaluate the effects of the four projects on Atlantic salmon and other migratory fish in the Kennebec River.

¹ On July 16, 2020, the Council on Environmental Quality issued a final rule, Update to the Regulations Implementing the Procedural Provisions of the National Environmental Policy Act (Final Rule, 85 FR 43,304), which was effective as of September 14, 2020. Accordingly, this EIS will be prepared pursuant to the Final Rule.

In consideration of the comments received on the record for the projects, staff now intends to prepare a draft and final EIS to evaluate the effects of relicensing the Shawmut Project and amending the licenses of all four projects to incorporate the measures in the Interim and Final Plans. The EIS will tier off Commission staff's Shawmut Project DEA and its findings and conclusions.² Additional information about the Commission's NEPA process is described below in the NEPA Process and the EIS section of this notice.

² The DEA for the Shawmut Project is filed in Docket P-2322-069 and is available at the following link: https://elibrary.ferc.gov/eLibrary/filedownload?fileid=020DE0B9-66E2-5005-8110-C31FAFC91712.

By this notice, Commission staff requests public comments on the scope of issues to address in the EIS. Specifically, we request comments on potential alternatives and impacts, as well as identification of any relevant information, studies, or analyses of any kind concerning impacts affecting the quality of the human environment. On November 20, 2015, Commission staff issued a Scoping Document 1 and initiated the NEPA scoping process for the Shawmut Project relicense in Docket 2322-069. A revised Scoping Document was issued on August 9, 2016. The EIS will address the concerns raised during the previous Shawmut Project scoping process and the comments filed on the Shawmut Project DEA, as well as comments received in response to this notice. Therefore, if you submitted comments to the Commission during the previous scoping process or in response to the Shawmut Project DEA, you do not need to file those comments again. Further details on how to submit comments are provided in the Public Participation section of this notice.

The deadline for filing scoping comments is 30 days from the issuance date of this notice.

Public Participation

There are three methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to FERC Online. Using eComment is an easy method for submitting brief, text-only comments on a project;

(2) You can file your comments electronically by using the eFiling feature, which is located on the Commission's website (www.ferc.gov) under the link to FERC Online. With eFiling, you can provide comments in a variety of formats by attaching them as a file with your submission. New eFiling users must first create an account by clicking on “eRegister.” You will be asked to select the type of filing you are making; a comment on a particular project is considered a “Comment on a Filing”; or

(3) You can file a paper copy of your comments by mailing them to the Commission. Be sure to reference the project docket number (Project Nos. 2322-069; P-2322-071; P-2325-100; P-2574-092; and P-2611-091) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

Additionally, the Commission offers a free service called eSubscription which makes it easy to stay informed of all issuances and submittals regarding the dockets/projects to which you subscribe. These instant email notifications are the fastest way to receive notification and provide a link to the document files which can reduce the amount of time you spend researching proceedings. Go to https://www.ferc.gov/ferc-online/overview to register for eSubscription.

Summary of Proposed Actions

The Lockwood Project is located at river mile (RM) 63 in Waterville, Maine and is the first dam on the mainstem of the Kennebec River. The Hydro-Kennebec Project is the next dam upriver from the Lockwood Project at RM 64, followed by the Shawmut Project at RM 69.5 and the Weston Project at RM 81.5. The four projects are located within the range of the Gulf of Maine Distinct Population Segment of Atlantic salmon, which is federally listed as endangered under the Endangered Species Act (ESA). The projects are also located within the designated critical habitat for Atlantic salmon. In addition, the Lockwood Project's tailwater area is located in designated critical habitat for the threatened Atlantic sturgeon, and within the known range of the endangered shortnose sturgeon.

Under the proposed relicensing action for the Shawmut Project, the licensee proposes numerous measures to enhance upstream and downstream passage of diadromous fish species at the project. The licensee also proposes to conduct monitoring studies to evaluate the effectiveness of the new passage measures at meeting performance standards for Atlantic salmon survival at the project.

Under the proposed Interim Plan for the Shawmut Project, the licensee proposes to continue to implement protection measures contained in an expired Interim Plan previously approved for the project, and terms and conditions contained in an expired Incidental Take Statement issued for the project. The licensee also proposes to implement additional supplemental measures for the protection of Atlantic salmon.

Under the proposed Final Plan for the Lockwood, Hydro-Kennebec, and Weston Projects, the licensees propose upstream and downstream fish passage measures, as well as monitoring and management measures, to avoid or minimize the potential adverse effects of continued operation of the projects on Atlantic salmon, Atlantic sturgeon, and shortnose sturgeon, and the designated critical habitat for Atlantic salmon and Atlantic sturgeon.

The NEPA Process and the EIS

The EIS issued by the Commission will discuss environmental effects that could occur as a result of the proposed Shawmut Project relicensing, and amending the licenses for the Shawmut, Lockwood, Hydro-Kennebec, and Weston Projects to include the measures contained in the Interim and Final Plans for the protection of ESA-listed Atlantic salmon, Atlantic sturgeon, and shortnose sturgeon. The EIS will address environmental effects associated with these proposed actions under the following general resource areas:

• Geology and soils

• water quality

• aquatic resources

• terrestrial resources

• threatened and endangered species

• recreation

• land use

• aesthetic resources

• socioeconomics

• cultural resources

• air quality and noise

• developmental resources

Your comments will help Commission staff identify and focus on the issues that might have an effect on the human environment and potentially eliminate others from further study and discussion in the EIS.

The EIS will present Commission staff's independent analysis of the issues. Staff will prepare a draft EIS which will be issued for public comment. Commission staff will consider all timely comments received during the comment period on the draft EIS and revise the document, as necessary, before issuing a final EIS. The draft and final EIS will be available in electronic format in the public record through eLibrary. If eSubscribed, you will receive email notification when environmental documents are issued.

Expected Environmental Impacts

Based on the previous pre-filing scoping process for the Shawmut Project, staff's analysis in the Shawmut Project DEA, Brookfield's proposed Interim and Final Plans and the comments received on the record for each of these proceedings, Commission staff has identified the following major environmental impacts of the proposed action that will be evaluated in the EIS: (1) Effects of construction of proposed fish passage facilities on water quality and aquatic habitat; (2) effects of operation of existing and proposed fish passage facilities on upstream and downstream migration of diadromous fish populations, including threatened and endangered species and critical habitat; and (3) effects of proposed fish passage facility construction on cultural resources at the projects.

Alternatives Under Consideration

As part of our review in the EIS, Commission staff will consider all reasonable alternatives, which include: Alternatives that are technically and economically feasible, meet the purpose and need for the proposed action, and meet the goals of the applicant.³ Alternatives that do not meet these requirements will be summarized and dismissed from further consideration in the EIS. Staff will also consider the no-action alternative. With this notice, we ask commenters to identify potential alternatives for consideration.

³ 40 CFR 1508.1(z)

Schedule for Environmental Review

This scoping notice identifies Commission staff's planned schedule for completion of the draft and final EIS for the proposals.

Issuance of Notice of Availability of the draft EIS—August 2022

Issuance of Notice of Availability of the final EIS—February 2023

If a schedule change becomes necessary, an additional notice will be provided so that the relevant agencies are kept informed of the projects' progress. After the final EIS is issued, the Commission will make a decision on the proposals.

Permits and Authorizations Required

The table below lists the permits and authorizations that are anticipated to be required for the proposed actions. We note that this list may not be all-inclusive and does not preclude any required permits or authorizations if it is not listed here. Agencies with jurisdiction by law and/or special expertise may formally cooperate in the preparation of the Commission's EIS and may adopt the EIS to satisfy its NEPA responsibilities related to these actions. Agencies that would like to request cooperating agency status should follow the instructions for filing comments provided under the Public Participation section of this notice.

Permit | Agency
Clean Water Act Section 401 Water Quality Certification | Maine Department of Environmental Protection.
Endangered Species Act Section 7 Consultation | National Marine Fisheries Service.

Additional Information

Additional information about the project is available on the FERC website at www.ferc.gov using the eLibrary link. Click on the eLibrary link, click on “General Search” and enter the docket number in the “Docket Number” field, excluding the last three digits (i.e., P-2322, P-2325, P-2574, and P-2611). Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

If you have further questions you may also contact Marybeth Gay at Marybeth.gay@ferc.gov, or 202-502-6125, or Matt Cutlip at Matt.Cutlip@ferc.gov, or 503-552-2762.

Dated: November 23, 2021.
Kimberly D. Bose,
Secretary.

[FR Doc. 2021-26034 Filed 11-29-21; 8:45 am]

BILLING CODE 6717-01-P